FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 27, 2014.

A. Federal Reserve Bank of Richmond (Adam M. Drimer, Assistant Vice President) 701 East Byrd Street, Richmond, Virginia 23261-4528:

1. H. Ronnie Montgomery and Sandra W. Montgomery, both of Jonesville, Virginia; Julie Anne Montgomery, Abingdon, Virginia; Lee Memorial Gardens Inc., Pennington Gap, Virginia; and Terry M. Estep, Ewing, Virginia, as a group acting in concert; to acquire voting shares of Farmers and Miners Bank, Pennington Gap, Virginia.

B. Federal Reserve Bank of Minneapolis (Jacquelyn K. Brunmeier, Assistant Vice President) 90 Hennepin Avenue, Minneapolis, Minnesota 55480-0291:

1. Robert F. Wishek, Ashley, as co-trustee of the McIntosh County Bank Holding Company, Inc., 2012 Voting Trust Agreement, both of Ashley, North Dakota; to retain voting shares of McIntosh County Bank Holding Company, Inc., and thereby indirectly retain voting shares of McIntosh County Bank, both in Ashley, North Dakota, and North Star Holding Company, Inc., and its subsidiary, Unison Bank, both in Jamestown, North Dakota.

Board of Governors of the Federal Reserve System, May 6, 2014.
Michael J. Lewandowski,
Associate Secretary of the Board.

[FR Doc. 2014-10670 Filed 5-8-14; 8:45 am]

BILLING CODE 6210-01-P